FEDERAL COMMUNICATIONS COMMISSION

47 CFR Part 4

[PS Docket Nos. 13-75, 11-60; FCC 13-158]

Improving 9-1-1 Reliability; Reliability and Continuity of Communications Networks, Including Broadband Technologies

AGENCY: Federal Communications Commission.

ACTION: Final rule; announcement of effective date.

SUMMARY: In this document, the Commission announces that the Office of Management and Budget (OMB) has approved, for a period of three years, an information collection associated with the Commission's Report and Order, FCC 13-158, published at 79 FR 3123 on January 17, 2014, and at 79 FR 7589 on February 10, 2014. This document is consistent with the Report and Order, which stated that the Commission would publish a document in the Federal Register announcing OMB approval and the effective date of requirements subject to OMB approval. Specifically, this document announces the effective date of rules requiring Covered 911 Service Providers to notify Public Safety Answering Points (PSAPs) and other “911 special facilities” of major disruptions in 911 service within time limits established by the Commission.

DATES: 47 CFR 4.9(h) is effective November 4, 2014.

FOR FURTHER INFORMATION CONTACT: For additional information contact Cathy Williams, Cathy.Williams@fcc.gov, (202) 418-2918.

SUPPLEMENTARY INFORMATION: This document announces that, on October 17, 2014, OMB approved information collection requirements contained in the Commission's Report and Order, FCC 13-158, Improving 9-1-1 Reliability; Reliability and Continuity of Communications Networks, Including Broadband Technologies, published at 79 FR 3123 on January 17, 2014 and at 79 FR 7589 on February 10, 2014. As pertinent here, the Report and Order established more specific outage notification requirements for Covered 911 Service Providers, including time limits for outage notifications to affected PSAPs and specific information that must be included in such notifications. The OMB Control Number is 3060-0484. The Commission publishes this document as an announcement of the effective date of the new requirements.

If you have any comments on the burden estimates listed below, or how the Commission can improve the collections and reduce any burdens caused thereby, please contact Cathy Williams, Federal Communications Commission, Room 1-C823, 445 12th Street SW., Washington, DC 20554. Please include the OMB Control Number, 3060-0484, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis: As required by the Paperwork Reduction Act of 1995 (44 U.S.C. 3507), the FCC is notifying the public that it received OMB approval on October 17, 2014, for information collection requirements contained in the Commission's rules at 47 CFR 4.9(h).

Under 5 CFR part 1320, an agency may not conduct or sponsor a collection of information unless it displays a current, valid OMB Control Number. No person shall be subject to any penalty for failing to comply with a collection of information subject to the Paperwork Reduction Act that does not display a current, valid OMB Control Number. The OMB Control Number is 3060-0484. The foregoing notice is required by the Paperwork Reduction Act of 1995, Public Law 104-13, October 1, 1995, and 44 U.S.C. 3507.

The total annual reporting burdens and costs for the respondents are as follows:

OMB Control Number: 3060-0484.

OMB Approval Date: October 17, 2014.

OMB Expiration Date: October 31, 2017.

Title: Section 4.9, Part 4 of the Commission's Rules Concerning Disruptions to Communications.

Form Number: Not applicable. Respondents: Business or other for-profit entities; not-for-profit institutions.

Number of Respondents and Responses: Approximately 1,100 respondents; 15,444 responses per year.

Estimated Time per Response: No more than 2.5 hours per occurrence.

Frequency of Response: On occasion and annual reporting requirements, recordkeeping requirement and third party disclosure requirement

Obligation to Respond: Mandatory. Statutory authority for this collection of information is contained in 47 U.S.C. 151, 154(i)-(j) & (o), 201(b), 214(d), 218, 251(e)(3), 301, 303(b), 303(g), 303(r), 307, 309(a), 316, 332, 403, 615a-1, and 615c of the Communications Act of 1934, as amended, 47 U.S.C. 151, 154(i)-(j) & (o), 201(b), 214(d), 218, 251(e)(3), 301, 303(b), 303(g), 303(r), 307, 309(a), 316, 332, 403, 615a-1, and 615c.

Total Annual Burden: 29,870 hours.

Total Annual Cost: $0.

Nature and Extent of Confidentiality: Network Outage Reporting System (NORS) outage reports filed with the Commission pursuant to Part 4 of its rules are presumed confidential. The information in those filings may be shared with the Department of Homeland Security only under appropriate confidential disclosure provisions. Other persons seeking disclosure must follow the procedures delineated in 47 CFR 0.457 and 0.459 of the Commission's rules for requests for and disclosure of information. The revisions to this information collection require information to be transmitted to third parties, not to the FCC. Accordingly, the Commission cannot, and does not, guarantee confidentiality of information provided directly to PSAPs or other 911 special facilities. The revisions do not affect the confidential treatment of information provided directly to the FCC through NORS.

Privacy Impact Assessment: No impact(s).

Needs and Uses: On December 12, 2013, the Commission released a Report and Order, PS Docket Nos. 13-75, 11-60; FCC 13-158 (the Report and Order) adopting rules, which are codified at 47 CFR 4.9(h). The Report and Order requires Covered 911 Service Providers, defined in section 12.4(a)(4), to notify PSAPs of outages that potentially affect 911 service within 30 minutes of discovering the outage and provide contact information such as a name, telephone number, and email for follow-up. Whenever additional material information becomes available, but no later than two hours after the initial contact, the Covered 911 Service Provider must communicate additional detail to the PSAP, including the nature of the outage, its best-known cause, the geographic scope of the outage, and the estimated time for repairs. Notifications must be transmitted by telephone and in writing via electronic means, unless the PSAP and service provider have agreed in advance to an alternative method. The new requirements apply only to entities defined as Covered 911 Service Providers under 47 CFR 12.4(a)(4), and outage reporting obligations for other entities remain unchanged.

Previous FCC rules required certain communications providers to notify PSAPs of 911 outages “as soon as possible” with “all available information that may be useful.” The revisions to this information collection respond to the derecho storm that struck the Midwest and Mid-Atlantic United States in June 2012, causing significant disruptions in 911 service. Through its inquiry into these 911 outages, the Commission learned that many PSAPs' efforts to restore service were complicated by inadequate information and ineffective communication by 911 service providers. PSAPs depend on reliable 911 service to answer emergency calls and dispatch help when needed. When 911 service is compromised, PSAPs require prompt notification and useful information about the outage so that they may make alternate plans to reroute calls until service is restored.

As a result of its adoption of section 4.9(h), the Commission reported a 223-hour increase in its previous annual burden estimates for OMB Control Number 3060-0484. These revisions do not affect the obligation to submit NORS outage reports to the FCC or the information that must be provided in NORS reports; those portions of the information collection have already been approved by OMB and have not changed since that approval.

Federal Communications Commission.
Marlene H. Dortch,
Secretary.

[FR Doc. 2014-26117 Filed 11-3-14; 8:45 am]

BILLING CODE 6712-01-P